DEPARTMENT OF DEFENSE

48 CFR Part 253

[DFARS Case 2002-D010]

Defense Federal Acquisition Regulation Supplement; Reporting Requirements Update; Correction

AGENCY: Department of Defense (DoD).

ACTION: Correction to final rule.

SUMMARY: DoD is issuing a correction to the final rule published at 67 FR 46112-46123 on July 12, 2002, pertaining to contract action reporting requirements for Fiscal Year 2003. The correction adds a reporting agency code.

EFFECTIVE DATE: October 1, 2002.

FOR FURTHER INFORMATION CONTACT: Ms. Susan Schneider, Defense Acquisition Regulations Council, OUSD(AT&L)DP(DAR), IMD 3C132, 3062 Defense Pentagon, Washington, DC 20301-3062. Telephone (703) 602-0326; facsimile (703) 602-0350.

Correction

In the issue of Friday, July 12, 2002, on page 46113, in the third column, section 253.204-70, paragraph (a)(3)(i) is corrected by adding, after the last semicolon, “97AB (NIMA);”.

Michele P. Peterson,
Executive Editor, Defense Acquisition Regulations Council.

[FR Doc. 02-19079 Filed 7-29-02; 8:45 am]

BILLING CODE 5001-08-P